DEPARTMENT OF THE TREASURY

Office of Foreign Assets Control

Designation of Three (3) Individuals Pursuant to Executive Order 13573 of May 18, 2011, “Blocking Property of Senior Officials of the Government of Syria”

AGENCY: Office of Foreign Assets Control, Treasury.

ACTION: Notice.

SUMMARY: The Treasury Department's Office of Foreign Assets Control (“OFAC”) is publishing the names of three (3) individuals whose property and interests in property are blocked pursuant to Executive Order 13573 of May 18, 2011, “Blocking Property of Senior Officials of the Government of Syria.”

DATES: The designation by the Director of OFAC of the three (3) individuals identified in this notice, pursuant to Executive Order 13573, is effective on May 16, 2013.

FOR FURTHER INFORMATION CONTACT: Assistant Director, Compliance Outreach & Implementation, Office of Foreign Assets Control, Department of the Treasury, 1500 Pennsylvania Avenue NW. (Treasury Annex), Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On May 18, 2011, the President issued Executive Order 13573, “Blocking Property of Senior Officials of the Government of Syria,” (the “Order”) pursuant to, inter alia, the International Emergency Economic Powers Act (50 U.S.C. 1701-06). In the Order, the President took additional steps with respect to the national emergency declared in Executive Order 13338 of May 11, 2004, which was expanded in scope in Executive Order 13572 of April 29, 2011.

Section 1 of the Order blocks, with certain exceptions, all property and interests in property that are in the United States, that come within the United States, or that are or come within the possession or control of any United States person, of persons listed in the Annex to the Order and of persons determined by the Secretary of the Treasury, in consultation with the Secretary of State: (1) To be a senior official of the Government of Syria; (2) to be an agency or instrumentality of the Government of Syria, or owned or controlled, directly or indirectly, by the Government of Syria or by an official or officials of the Government of Syria; (3) to have materially assisted, sponsored, or provided financial, material, or technological support for, or goods or services in support of, any person whose property an interests in property are blocked pursuant to this order; or (4) to be owned or controlled by, or to have acted or purported to act for or on behalf of directly or indirectly, any person whose property and interest are blocked pursuant to this order.

On May 16, 2013, the Director of OFAC, in consultation with the Department of State, designated, pursuant to one or more of the criteria set forth in subsection 1(b) of the Order, (3) three individuals whose property and interests in property are blocked pursuant to Executive Order 13573.

The listings for those individuals on OFAC's list of Specially Designated Nationals and Blocked Persons appear as follows:

Individuals

1. AL-AHMAD, NAJM HAMAD; DOB 1969; POB Aleppo, Syria; Minister of Justice (individual) [SYRIA].

2. AL-NAYEF, SA'AD ABDEL-SALAM; DOB 1959; POB Aleppo, Syria; Minister of Health (individual) [SYRIA].

3. AL-SUKHNI, ADNAN ABDO; DOB 1961; POB Aleppo, Syria; Minister of Industry (individual) [SYRIA].

Dated: May 16, 2013.
John H. Battle,
Acting Director, Office of Foreign Assets Control.

[FR Doc. 2013-12442 Filed 5-23-13; 8:45 am]

BILLING CODE 4810-AL-P